DEPARTMENT OF HOMELAND SECURITY

Coast Guard

[USCG-2005-22732]

Domestic Vessel Passenger Weights—Voluntary Interim Measures

AGENCY: Coast Guard, DHS.

ACTION: Notice; request for public comments.

SUMMARY: The Coast Guard announces supplemental guidance for owners and operators of small passenger vessels to avoid operation in environmental conditions that are inappropriate for their vessels. The Coast Guard is requesting public comments on this notice.

DATES: Comments and related material must reach the Docket Management Facility not later than January 31, 2007.

ADDRESSES: You may submit comments identified by Coast Guard docket number USCG-2005-22732 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call Mr. William Peters, Naval Architecture Division, G-PSE-2, Coast Guard, telephone 202-372-1372. If you have questions on viewing or submitting material to the docket, call Ms. Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2005-22732) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

On April 26, 2006, the Coast Guard published a notice (71 FR 24732) that announced voluntary interim measures for certain domestic vessels to account for increased passenger and vessel weight when determining the number of passengers permitted. The notice included a discussion on the typical restriction to “reasonable operating conditions” placed on the Certificate of Inspection (COI) of vessels that are designed only for operation on protected waters. Under the recommended voluntary measures for prudent operation for all small passenger vessels, the notice advised that reasonable operating conditions do not include conditions associated with a small craft advisory as well as other specific wind and wave conditions.

According to the National Weather Service (NWS), a small craft advisory is issued to alert small craft—generally vessels less than 65 feet in length—to sustained (more than 2 hours) hazardous weather or sea conditions that may be either present or forecasted. Upon learning of such an advisory, the NWS urges mariners to immediately determine the reason and to monitor the latest marine broadcast. See http://www.weather.gov/glossary.

The April notice also discussed increased passenger weight and identified the means by which the Coast Guard typically evaluates a small passenger vessel's stability.

This notice updates the voluntary measures for prudent operation published in the Federal Register on April 26, 2006, by clarifying guidance in the previous notice on reasonable operating conditions and the vessels to which that guidance applies.

The Coast Guard received numerous comments from the public in response to the April 26, 2006, notice.

Advisory Actions

Updated Voluntary Measures for Prudent Operation: All Small Passenger Vessels

The recommendation given in the April 26, 2006, notice to owners and operators of all small passenger vessels certificated only for operation on protected waters is amended as follows to further clarify “reasonable operating conditions”:

(1) For passenger pontoon vessels, voluntarily operate in “reasonable operating conditions,” which do not include:

• Wind gusts over 30 knots (35 miles per hour);

• Waves over two feet;

• Sustained winds over 18 knots (21 miles per hour); or

• Conditions associated with a small craft advisory.

(2) For other small passenger, non-sailing vessels certificated to operate only on protected waters and that are less than 65 feet, give special consideration to the “reasonable operating conditions” as set forth in item (1) above while complying with the requirements of 46 CFR 185.304 or 122.304.

The Coast Guard expects that small passenger vessel owners and operators are aware of and follow the guidelines presented in the April 26, 2006 notice as supplemented by this notice. The Coast Guard is in the process of more formally addressing stability issues caused by increases in passenger and vessel weight for all domestic vessels.

Dated: October 25, 2006.
C.E. Bone,
Rear Admiral, U.S. Coast Guard, Assistant Commandant for Prevention.

[FR Doc. E6-18334 Filed 11-1-06; 8:45 am]

BILLING CODE 4910-15-P